DEPARTMENT OF VETERANS AFFAIRS

Professional Certification and Licensure Advisory Committee; Notice of Meeting

The Department of Veterans Affairs gives notice under Public Law 92-463 (Federal Advisory Committee Act) that the Professional Certification and Licensure Advisory Committee has scheduled a meeting for October 26, 2006 in Room 930 at the Department of Veterans Affairs, 810 Vermont Avenue, NW., Washington, DC, from 8:30 a.m. to 4 p.m. The meeting is open to the public.

The purpose of the Committee is to advise the Secretary of Veterans Affairs on the requirements of organizations or entities offering licensing and certification tests to individuals for which payment for such tests may be made under Chapters 30, 32, 34, or 35 of title 38, United States Code.

The meeting will open with remarks by Ms. Sandra Winborne, Committee Chair. During the morning session, the Committee will discuss their final report to the Secretary, review current licensure and certification data, and receive certificates of appreciation. The afternoon session will include further discussion on recommendations to the Secretary, statements from the public, old business, and any new business.

Interested persons may file written statements to the Committee before the meeting, or within 10 days after the meeting, with Mr. Sal Garner, Education Service (225B), Veterans Benefits Administration, Department of Veterans Affairs, 810 Vermont Avenue, NW., Washington, DC 20420. Oral statements from the public will be heard at 2 p.m. Anyone wishing to attend the meeting should contact Mr. Sal Garner or Mr. Robyn Noles at (202) 273-7187.

Dated: September 28, 2006. By Direction of the Secretary.
E. Philip Riggin,
Committee Management Officer.

[FR Doc. 06-8488 Filed 10-4-06; 8:45 am]

BILLING CODE 8320-01-M